ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, May 11-12, 2004, at the times and location noted below.

DATES: The schedule of events is as follows:

Tuesday, May 11, 2004

10-noon Ad Hoc Committees on Courthouse Access and International Outreach.

1:30-2:30 p.m. Planning and Budget Committee.

2:30-3:30 Technical Programs Committee.

3:30-5:30 Passenger Vessels Ad Hoc Committee (Closed).

Wednesday, May 12, 2004

9-10:30 a.m. Passenger Vessels Ad Hoc Committee (Closed).

10:30-Noon Executive Committee.

1:30-3 p.m. Board Meeting.

ADDRESSES: The meetings will be held at the Marriott at Metro Center Hotel, 775 12th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the March 10, 2004, Board Meeting Minutes.

• Ad Hoc Committee on Courthouse Access.

• Ad Hoc Committee on International Outreach.

• Planning and Budget Committee.

• Technical Programs Committee.

• Executive Committee.

Closed Meeting

• Passenger Vessels Accessibility Guidelines.

All meetings are accessible to persons with disabilities. Sign language interpreters and an assistive listening system are available at all meetings. Persons attending Board meetings are requested to refrain from using perfume, cologne, and other fragrances for the comfort of other participants.

James J. Raggio,
General Counsel.

[FR Doc. 04-10025 Filed 5-3-04; 8:45 am]

BILLING CODE 8150-01-P